DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 15, 2010.

Interested persons are invited to submit written comments regarding the subject matter of the investigations to the Director, Division of Trade Adjustment Assistance, at the address shown below, not later than March 15, 2010.

The petitions filed in this case are available for inspection at the Division of Trade Adjustment Assistance, Employment and Training Administration, U.S. Department of Labor, Room N-5428, 200 Constitution Avenue, NW., Washington, DC 20210.

Signed at Washington, DC, this 24th day of February 2010.
Elliott Kushner,
Certifying Officer, Division of Trade Adjustment Assistance.

Appendix
[TAA petitions instituted between 2/1/10 and 2/5/10]
TA-W | Subject firm (petitioners) | Location | Date of institution | Date of petition
73383 | Conner Steel (State) | San Angelo, TX | 02/01/10 | 01/29/10
73384 | B&K Trucking (State) | Iraan, TX | 02/01/10 | 01/29/10
73385 | Hewlett Packard (Comp) | Palo Alto, CA | 02/01/10 | 01/28/10
73386 | Robinson Drilling (State) | Big Spring, TX | 02/01/10 | 01/29/10
73387 | CC Forbes (State) | Big Lake, TX | 02/01/10 | 01/29/10
73388 | Basic Energy Services (State) | Sonora, TX | 02/01/10 | 01/29/10
73389 | Allagash Ent. Inc. (Comp) | Allagash, ME | 02/01/10 | 01/05/10
73390 | General Electric Mahoning Glass (Wkrs) | Niles, OH | 02/01/10 | 01/21/10
73391 | Dakkota Integrated Systems, LLC (Comp) | Holt, MI | 02/01/10 | 01/25/10
73392 | ABB, Inc. (Wkrs) | Pontiac, MI | 02/01/10 | 01/14/10
73393 | Hewlett Packard (Wkrs) | Marlborough, MA | 02/02/10 | 01/25/10
73394 | Varco-Pruden WI Division of Blue Scope (Wkrs) | Evansville, WI | 02/02/10 | 01/26/10
73395 | SWR Inc./Roddie Transport (State) | San Angelo, TX | 02/02/10 | 02/01/10
73396 | Ingersoll-Rand/Harrow Products (State) | Bristol, CT | 02/02/10 | 01/26/10
73397 | Remy, Inc. (Comp) | Meridian, MS | 02/02/10 | 02/01/10
73398 | Fuel Total Systems California Corporation (State) | Lathrop, CA | 02/02/10 | 02/01/10
73399 | National Oilwell Varco (State) | San Angelo, TX | 02/02/10 | 02/01/10
73400 | Volvo Construction Equipment (Comp) | Skyland, NC | 02/02/10 | 02/01/10
73401 | Edward Ferrell/Lewis Mittman, Inc. (Wkrs) | High Point, NC | 02/02/10 | 01/11/10
73402 | Springs Window Fashions, LLC (Wkrs) | Middleton, WI | 02/02/10 | 02/01/10
73403 | Honeywell Turbo Technologies (Wkrs) | Torrance, CA | 02/02/10 | 01/25/10
73404 | CC Forbes (State) | Big Lake, TX | 02/02/10 | 01/29/10
73405 | Freedom Communication, Inc. (State) | Santa Ana, CA | 02/02/10 | 01/29/10
73406 | ET Publishing, Inc. (State) | Miami, FL | 02/02/10 | 01/27/10
73407 | Express Energy (State) | San Angelo, TX | 02/02/10 | 01/29/10
73408 | National Oilwell Varco (State) | Houston, TX | 02/02/10 | 01/29/10
73409 | Sumitomo Electric Wiring Systems, Inc. (Comp) | Bowling Green, KY | 02/03/10 | 02/02/10
73410 | Industrial Machining Corporation (Comp) | Fort Smith, AR | 02/03/10 | 02/02/10
73411 | MAPA Spontex (Union) | Columbia, TN | 02/03/10 | 02/02/10
73412 | Alcan Cable (Comp) | Roseburg, OR | 02/03/10 | 02/02/10
73413 | Unit Structures, LLC (State) | Magnolia, AR | 02/03/10 | 02/02/10
73414 | Russell Brands, LLC—Columbus DC (Comp) | Midland, GA | 02/03/10 | 01/29/10
73415 | Russell Brands, LLC—Reno DC (Comp) | Reno, NV | 02/03/10 | 01/29/10
73416 | Desoto Mills LLC (Comp) | Fort Payne, AL | 02/03/10 | 01/29/10
73417 | Precision Dynamics Corporation (Comp) | San Fernando, CA | 02/03/10 | 02/01/10
73418 | Precision Dynamics Corporation (Comp) | Dallas, TX | 02/03/10 | 02/01/10
73419 | Bimbo Bakersies USA, Inc. (Comp) | Horsham, PA | 02/03/10 | 01/28/10
73420 | Alticor, Inc. (Comp) | Ada, MI | 02/03/10 | 02/01/10
73421 | Les Meubles (Wkrs) | Malone, NY | 02/03/10 | 02/01/10
73422 | AT&T Mobility Svcs, LLC (Wkrs) | St. Louis, MO | 02/03/10 | 01/28/10
73423 | The Berry Company, LLC (State) | Miamisburg, OH | 02/03/10 | 02/01/10
73424 | The Berry Company (State) | Cincinnati, OH | 02/03/10 | 02/01/10
73425 | The Berry Company, LLC (State) | Moraine, OH | 02/03/10 | 02/01/10
73426 | FCI USA, LLC (Comp) | Etters, PA | 02/03/10 | 02/01/10
73427 | Haldex Hydraulics Corporation (Comp) | Statesville, NC | 02/03/10 | 01/29/10
73428 | Morata Power Supply (Wkrs) | Mansfield, MA | 02/03/10 | 01/29/10
73429 | Masonico, LLC (Comp) | Fraser, MI | 02/03/10 | 01/29/10
73430 | Covad Communications, Inc. (State) | Denver, CO | 02/03/10 | 01/28/10
73431 | Milliken Barnwell Plant (Wkrs) | Barnwell, SC | 02/03/10 | 01/19/10
73432 | GHSP (Comp) | Troy, MI | 02/03/10 | 01/05/10
73433 | Moog Components Group (Wkrs) | Blacksburg, VA | 02/03/10 | 01/28/10
73434 | Festo Corporation (Wkrs) | Earth City, MO | 02/03/10 | 01/28/10
73435 | AT&T Mobility (Wkrs) | Harrisburg, PA | 02/03/10 | 01/28/10
73436 | Rexam Plastics (State) | Charlotte, NC | 02/03/10 | 01/28/10
73437 | Samuelson & Co. Midwest, Inc. (Comp) | Troy, MI | 02/03/10 | 01/27/10
73438 | Casa Decor (State) | Sherman Oaks, CA | 02/03/10 | 01/27/10
73439 | NCI Group, Inc. (Wkrs) | Rocky Mount, NC | 02/03/10 | 01/25/10
73440 | AT&T Mobility (Wkrs) | Orlando, FL | 02/03/10 | 01/27/10
73441 | Quad Graphics, Inc. (Wkrs) | Sussex, WI | 02/03/10 | 02/02/10
73442 | IBM (State) | Boulder, CO | 02/03/10 | 01/26/10
73443 | SunGard Availability Services (Wkrs) | Thornton, CO | 02/03/10 | 01/27/10
73444 | Geocycle US (State) | Dundee, MI | 02/03/10 | 01/08/10
73445 | Weyerhaeuser ILevel Technology Center (Comp) | Boise, ID | 02/03/10 | 01/22/10
73446 | Genesis Networks Solutions, Inc. (Comp) | Abilene, TX | 02/04/10 | 02/03/10
73447 | Swiss Re America Holding Corporation (Wkrs) | Overland Park, KS | 02/04/10 | 02/03/10
73448 | Blue Heron Paper Company (Union) | Oregon City, OR | 02/04/10 | 02/01/10
73449 | Tyco Electronics (State) | Norwood, MA | 02/04/10 | 02/03/10
73450 | Cytec Industries, Inc. (Comp) | Woodland Park, NJ | 02/04/10 | 01/29/10
73451 | Harley Davidson Motor Company (Wkrs) | Milwaukee, WI | 02/04/10 | 02/03/10
73452 | Safmarine, Inc. (Comp) | Madison, NJ | 02/05/10 | 02/04/10
73453 | Multi-Fineline Electronix, Inc. (Wkrs) | Anaheim, CA | 02/05/10 | 01/22/10
73454 | Ickes Chevrolet Cadillac Company, Inc. (Wkrs) | Robinson, IL | 02/05/10 | 02/04/10
73455 | Chromalox (Comp) | Ogden, UT | 02/05/10 | 02/03/10
73456 | AT&T Mobility (Wkrs) | Portland, OR | 02/05/10 | 02/02/10
73457 | Hayes-Lemmerz, Int. (Union) | Akron, OH | 02/05/10 | 01/29/10
73458 | Chrysler Financial (Wkrs) | Troy, MI | 02/05/10 | 02/04/10
73459 | PDC Glass and Metal Services (Union) | Cheswick, PA | 02/05/10 | 01/29/10
73460 | Milacron, Inc. (Stat) | Batavia, OH | 02/05/10 | 02/04/10

[FR Doc. 2010-4572 Filed 3-4-10; 8:45 am]

BILLING CODE 4510-FN-P